DEPARTMENT OF TRANSPORTATION

Office of the Secretary

Aviation Proceedings, Agreements Filed the Week Ending June 18, 2004

The following Agreements were filed with the Department of Transportation under the provisions of 49 U.S.C. 412 and 414. Answers may be filed within 21 days after the filing of the application.

Docket Number: OST-2004-18084.

Date Filed: June 14, 2004.

Parties: Members of the International Air Transport Association.

Subject: PTC2 EUR 0561 dated 15 June 2004, Mail Vote 382—Resolution 010d-TC2 Special Passenger Amending Resolution from Algeria to Europe, Intended effective date: 1 July 2004.

Docket Number: OST-2004-18086.

Date Filed: June 14, 2004.

Parties: Members of the International Air Transport Association.

Subject: PTC2 EUR-AFR 0203 dated 15 June 2004, Mail Vote 383—Resolution 010e-TC2 Special Passenger Amending Resolution from Algeria to Africa, Intended effective date: 8 July 2004.

Docket Number: OST-2004-18087.

Date Filed: June 14, 2004.

Parties: Members of the International Air Transport Association.

Subject: PTC2 EUR-ME 0183 dated 15 June 2004, Mail Vote 384—Resolution 010f-TC2 Special Passenger Amending Resolution from Algeria to Middle East, Intended effective date: 8 July 2004.

Docket Number: OST-2004-18171.

Date Filed: June 14, 2004.

Parties: Members of the International Air Transport Association.

Subject: CTC COMP 0483 dated 11 June 2004, Composite Resolutions, CTC COMP 0485 dated 11 June 2004, Worldwide Area Resolutions to/from USA/US Territories except Alliance Countries, CTC COMP 0486 dated 11 June 2004, Worldwide Area Resolutions, Alliance Countries r1-r23, Minutes—CTC COMP 0488 dated 15 June 2004, Intended effective date: 1 October 2004.

Docket Number: OST-2004-18180.

Date Filed: June 14, 2004.

Parties: Members of the International Air Transport Association.

Subject: CTC COMP 0484 dated 11 June 2004, Worldwide Area Resolutions except to/from USA/US Territories r1-r9, Minutes—CTC COMP 0488 dated 15 June 2004, Intended effective date: 1 October 2004.

Docket Number: OST-2004-18182.

Date Filed: June 14, 2004.

Parties: Members of the International Air Transport Association.

Subject: CTC COMP 0487 dated 11 June 2004, Composite Resolutions 002, 033a r1-r3, Minutes—CTC COMP 0488 dated 15 June 2004, Intended effective date: 1 February 2005.

Docket Number: OST-2004-18304.

Date Filed: June 15, 2004.

Parties: Members of the International Air Transport Association.

Subject: PTC2 EUR 0563 dated 18 June 2004, Mail Vote 385—Resolution 010g—TC2 Within Europe Special Amending Resolution from Switzerland to Europe, Intended effective date: 1 July 2004.

Docket Number: OST-2004-18405.

Date Filed: June 17, 2004.

Parties: Members of the International Air Transport Association.

Subject: PTC1 0291 dated 18 June 2004, Mail Vote 388—Resolution 010j, TC1 Special Passenger Amending Resolution Within South America r1-r4, Intended effective date: 2 July 2004.

Docket Number: OST-2004-18406.

Date Filed: June 17, 2004.

Parties: Members of the International Air Transport Association.

Subject: PTC3 0756 dated 18 June 2004, Mail Vote 386—Resolution 010h, TC3 Special Passenger Amending Resolution r1-r4, Intended effective date: 1 August 2004.

Docket Number: OST-2004-18408.

Date Filed: June 17, 2004.

Parties: Members of the International Air Transport Association.

Subject: PTC2 EUR 0564 dated 18 June 2004, Mail Vote 387—Resolution 010i, TC2 Special Passenger Amending Resolution from Spain to Europe, Intended effective date: 1 July 2004.

Docket Number: OST-2004-18462.

Date Filed: June 18, 2004.

Parties: Members of the International Air Transport Association.

Subject: PTC12 USA-EUR 0170 dated 22 June 2004, Mail Vote 389, TC12 North Atlantic USA-Europe, Expedited Resolution 015h, Add-ons in USA between USA and UK r1, Intended effective date: 1 July 2004.

Andrea M. Jenkins,
Program Manager, Docket Operations, Federal Register Liaison.

[FR Doc. 04-15244 Filed 7-2-04; 8:45 am]

BILLING CODE 4910-62-P